ENVIRONMENTAL PROTECTION AGENCY

40 CFR Part 300

[FRL-7097-3]

National Oil and Hazardous Substances Contingency Plan; National Priorities List

AGENCY: Environmental Protection Agency (EPA).

ACTION: Direct final notice of deletion of a portion of the Sangamo Weston/Twelve Mile Creek/Lake Hartwell (Sangamo) Superfund Site from the National Priorities List (NPL).

SUMMARY: The United States Environmental Protection Agency (US EPA), Region 4, is publishing this direct final notice of deletion of a portion of the Sangamo Superfund Site (Site), located in Pickens, South Carolina, from the National Priorities List (NPL). The proposed partial deletion is for the Dodgens remote property which is located within a few miles of the main plant property. The NPL, promulgated pursuant to section 105 of the Comprehensive Environmental Response, Compensation, and Liability Act of 1980 (CERCLA), as amended, is appendix B of 40 CFR part 300, which is the National Oil and Hazardous Substances Pollution Contingency Plan (NCP). This direct final notice of deletion is being published by EPA, with the concurrence of the South Carolina Department of Health and Environmental Control. EPA has determined that all appropriate response actions under CERCLA have been completed for the Dodgens remote property, and therefore, further action pursuant to CERCLA is not appropriate.

DATES: This direct final deletion will be effective January 4, 2002 unless EPA receives adverse comments by December 5, 2001. If adverse comments are received, EPA will publish a timely withdrawal of the direct final deletion in the Federal Register informing the public that the deletion will not take effect.

ADDRESSES: Comments may be mailed to: Sheri Cresswell, Remedial Project Manager, US EPA, Region 4, 61 Forsyth St., WD-NSMB, SW., Atlanta, GA 30303.

Information Repositories: Repositories have been established to provide detailed information concerning this Site at the following addresses: U.S. EPA, Region 4 Superfund Records Center, 61 Forsyth St., SW., Atlanta, GA 30303, attn: Ms. Debbie Jourdan, (404) 562-8862; R.M. Cooper Library, Clemson University, South Palmetto Boulevard., Clemson, SC, (864) 656-5174; Pickens County Public Library, Easley Branch, 110 West First Avenue, Easley, SC, (864) 850-7077; and Hart County Library, 150 Benson Street, Hartwell, GA, (706) 376-4655.

FOR FURTHER INFORMATION CONTACT: Please contact either Sheri Cresswell (Remedial Project Manager) at 803-896-4171 or Tiki Whitfield (Community Relations Coordinator) at 1-800-435-9233 or 404-562-8530.

SUPPLEMENTARY INFORMATION:

Table of Contents

I. Introduction

II. NPL Deletion Criteria

III. Deletion Procedures

IV. Basis for Site Deletion

V. Deletion Action

I. Introduction

EPA Region 4 is publishing this direct final notice of deletion of a portion of the Sangamo Site from the NPL.

EPA identifies sites that appear to present a significant risk to public health, welfare, or the environment and maintains the NPL as the list of these sites. Sites on the NPL qualify for remedial responses financed by the Hazardous Substances Response Trust Fund (Fund). As described in § 300.425(e)(3) of the NCP, sites deleted from the NPL remain eligible for Fund-financed remedial actions in the unlikely event that conditions at the site warrant such actions.

Because EPA considers this action to be noncontroversial and routine, EPA is taking it without prior publication of a notice of intent to delete. This action will be effective January 4, 2002 unless EPA receives adverse comments by December 5, 2001. If adverse comments are received within the 30-day public comment period on this notice or the notice of intent to delete, EPA will publish a timely withdrawal of this direct final notice of deletion before the effective date of the deletion and the deletion will not take affect. EPA will, as appropriate, prepare a response to comments and continue with the deletion process on the basis of the notice of intent to delete and the comments already received. There will be no additional opportunity to comment.

Section II of this document explains the criteria for deleting sites from the NPL. Section III discusses procedures that EPA is using for this action. Section IV discusses the Sangamo Superfund Site and demonstrates how the portion that is being deleted meets the deletion criteria. Section V discusses EPA's actions to delete the portion of the Site from the NPL unless adverse comments are received during the comment period.

II. NPL Deletion Criteria

The NCP establishes the criteria that EPA uses to delete sites from the NPL. In accordance with § 300.425(e) of the NCP, sites may be deleted from the NPL where no further response is appropriate. In making this determination, EPA, in consultation with the State, considers whether the site or portion of the site has met any of the following criteria for site deletion:

(i) Responsible or other parties have implemented all appropriate response actions required;

(ii) All appropriate response actions under CERCLA have been implemented and no further response actions are deemed necessary; or

(iii) The remedial investigation has determined that the release poses no significant threat to public health or the environment and, therefore, no remedial action is appropriate.

Even if a site is deleted from the NPL, where hazardous substances, pollutants, or contaminants remain at the deleted site above levels that allow for unlimited use and unrestricted exposure, CERCLA section 121(c), 42 U.S.C. 9621(c), requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without the application of the hazard ranking system.

III. Deletion Procedures

The following procedures apply to deletion of the portion of the Site:

(1) EPA Region 4 consulted with South Carolina on the deletion of the portion of the Site from the NPL prior to developing this direct final notice of deletion.

(2) The State concurs with the decision to delete a portion of the Sangamo Site.

(3) Concurrently with the publication of this direct final notice of deletion, the notice of intent to delete is published today in the “Proposed Rules” section of the Federal Register and the availability of this notice is being published in a major local newspaper of general circulation at or near the Site and is being distributed to appropriate federal, state, and local government officials and other interested parties. The newspaper notice announces the 30-day public comment period concerning the notice of intent to delete a portion of the site from the NPL.

(4) The EPA placed copies of documents supporting the deletion in the Site information repositories identified above.

(5) If adverse comments are received within the 30-day public comment period on this notice of intent to delete also published in today's Federal Register, EPA will publish a timely notice of withdrawal of this direct final notice of deletion before its effective date and will prepare a response to comments and continue with the deletion process on the basis of the notice of intent to delete and the comments already received.

Partial deletion of a site from the NPL does not itself create, alter, or revoke any individual's rights or obligations. Deletion of a portion of a site from the NPL does not in any way alter EPA's right to take enforcement actions, as appropriate. The NPL is designed primarily for information purposes and to assist EPA management. As mentioned earlier, § 300.425(e)(30) of the NCP states that deletion of a site from the NPL does not preclude eligibility of the site for future Fund-financed response actions, should future conditions warrant further actions.

IV. Basis for Partial Site Deletion

The following Site summary provides EPA's rationale for the partial deletion of this Site from the NPL.

The Sangamo site (Site) is located in Pickens County, South Carolina. Sangamo Weston, Inc. owned and operated a capacitor manufacturing plant in Pickens, South Carolina from 1955 to 1987. In its manufacturing processes, Sangamo used dielectric fluids which contained several varieties of polychlorinated biphenyls (PCBs). PCBs reportedly enhanced the performance and durability of the fluids. Waste disposal practices from the Sangamo Plant included land-burial of off-specification capacitors and wastewater treatment sludges on the plant site and six satellite (remote) disposal areas within a 3-mile radius of the plant. The Dodgens property proposed for deletion is one of these areas. PCBs were also discharged with the effluent directly into Town Creek, which is a tributary of Twelvemile Creek. Twelvemile Creek is a major tributary of the 56,000 acre Lake Hartwell. As part of its overall strategy in addressing the Sangamo site, EPA split the site into two Operable Units. Operable Unit One (OU1) consists of the land-based source areas including the plant site and the six satellite disposal areas. OU2 addresses the sediment and biological impacts downstream of the land-based source areas.

The specific area associated with this partial delisting includes only a portion of the soils for OU1. The area proposed for delisting, the Dodgens property, has been the subject of previous investigations, and a clean-up action which removed contaminated soils from the property. The majority of the investigatory and remedial actions taken within the area targeted for partial delisting was performed under a Consent Decree, dated April 15, 1992.

A remedial investigation/feasibility study (RI/FS) was initiated by the potentially responsible party (currently Schlumberger Resource Management Services, Inc. (Schlumberger)) in 1988, which showed soils to be primarily contaminated with PCBs, though VOCs and metals were also detected. The Record of Decision (ROD) was signed in December 1990 which stated that the contaminated soils would be treated by thermal desorption. The groundwater at the Dodgens remote property showed very low levels of contamination at the time of the remedial investigation. However, since 1993, sampling data has not shown any groundwater contamination. Therefore, the property does not pose a risk to human health or the environment and remedial action is not warranted for the groundwater.

Under a Consent Decree with Schlumberger signed in April 1992, the contaminated soils were excavated from all six of the remote properties between November 1993 and July 1994. The ROD stated that soils were to be excavated to 10 parts per million (ppm) PCBs for the remote properties (except for the ravine parts of the Nix and Welborn properties, which were to be excavated to 1 ppm), and to 25 ppm on the plant property. Sampling to confirm the effectiveness of the waste removal efforts showed that the performance standards were achieved for the Plant site. Sampling also showed that all the remote properties were actually cleaned up to less than 1 ppm. The excavated areas were then backfilled with clean soil. Treatment of all contaminated soils (from the six remote properties, including the Dodgens property, and the plant property) by thermal desorption began in December 1995, and was completed in May 1997. Approximately 60,000 tons (40,000 cubic yards) of contaminated soils were treated to 2 ppm, and used as back fill on the Plant property. The cleanup level was confirmed through sampling of treated soils.

The remedial activities associated with removing contaminated soil within the area targeted for partial delisting at the Sangamo Site is considered a permanent remedy. No additional treatment of soils within this area will be necessary. As such, no operation and maintenance activities are necessary for this area. Because no hazardous substances, pollutants, or contaminants remain in the soils within the area targeted for partial delisting, no Five Year Review will be performed on this area.

V. Deletion Action

EPA, in concurrence with the State of South Carolina Department of Health and Environmental Control, has determined that all appropriate responses under CERCLA for the soils within the area targeted for this partial deletion have been completed and that no further activities by responsible parties are appropriate. Therefore, EPA is deleting the Dodgens portion of the site from the NPL.

Because EPA considers this action to be noncontroversial and routine, EPA is taking it without prior publication of a notice of intent to delete. This action will be effective January 4, 2002 unless EPA receives adverse comments by December 5, 2001. If adverse comments are received within the 30-day public comment period, EPA will publish a timely withdrawal of this direct final notice of deletion before the effective date of the deletion and the deletion will not take affect. EPA will prepare a response to comments and continue with the deletion process on the basis of the notice of intent to delete and the comments already received. There will be no additional opportunity to comment.

List of Subjects in 40 CFR Part 300

Environmental protection, Hazardous waste.

Dated: September 28, 2001.
A. Stanley Meiburg,
Acting Regional Administrator, Region 4.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of appendix B to part 300 is amended by revising the entry for “Sangamo Weston/Twelve-Mile/Hartwell/PCB, Pickens, South Carolina” to read as follows:

Table 1.—General Superfund Section
State | Site name | City/County | Notes (a)
* * * * * * *
SC | Sangamo Weston | Pickens | P
* * * * * * *
(a) Based on issuance of health advisory by Agency for Toxic Substances and Disease Registry (if scored, HRS score need not be ≦ 28.50).
P = Sites within partial deletion (s).

[FR Doc. 01-27463 Filed 11-2-01; 8:45 am]

BILLING CODE 6560-50-P